DEPARTMENT OF COMMERCE

Office of the Secretary, Office of Civil Rights

Proposed Information Collection; Comment Request; Requests for Reasonable Accommodation

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before June 2, 2003.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to the attention of Brenda Brittain, Disability Program Manager, Office of Civil Rights, at 202 482-8183. In addition, written comments may be sent via the Internet to BBrittain@doc.gov.

SUPPLEMENTARY INFORMATION:

I. Abstract

Under the Rehabilitation Act of 1973, Federal agencies must provide reasonable accommodation to qualified employees or applicants with disabilities, unless to do so would cause the undue hardship. Unless an accommodation would pose an undue hardship, the Department will provide reasonable accommodation to a qualified individual with a disability who is an:

a. Applicant who needs an accommodation in order to be considered for a job (any change to a job application process that enables a qualified applicant with a disability to be considered for the position such qualified applicant desires);

b. Employee who needs an accommodation to enable him or her to perform the essential functions of the job or to gain access to the workplace (any change to the work environment, or to the manner or circumstances under which the position held or desired is customarily performed, that enables a qualified individual with a disability to perform the essential functions of that position); or

c. Employee who needs an accommodation to enjoy equal benefits and privileges of employment (that which enables an employee with a disability to enjoy equal benefits and privileges of employment as are enjoyed by other similarly situated employees without disabilities).

Executive Order 13164 requires Federal agencies to provide written procedures for reasonable accommodation for employees and applicants. Records must be maintained in order to evaluate the fair application of the procedures for the DOC. To do so, a form has been developed to comprise the report for each reasonable accommodation request.

In order to ensure that the DOC process requests for reasonable accommodation in a fair, timely and equitable manner, applicants for employment and current employees are asked to verify their requests in writing by using form CD 575.

II. Method of Collection

The information shall be collected through the use of a paper form and available on the Internet.

III. Data

OMB Number: None.

Form Numbers: CD Form 575.

Type of Review: Regular submission.

Affected Public: Individuals or households.

Estimated Number of Respondents: 20.

Estimated Time Per Response: 7 minutes.

Estimated Total Annual Respondent Burden Hours: 2.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: March 28, 2003.
Gwellnar Banks,
Management Analyst, Office of the Chief Information Officer.

[FR Doc. 03-7955 Filed 4-1-03; 8:45 am]

BILLING CODE 3510-BP-P